DEPARTMENT OF HOMELAND SECURITY

Federal Emergency Management Agency

[Docket ID FEMA-2020-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Arizona:
Maricopa (FEMA Docket No.: B-1978). | City of Avondale, (19-09-1332X). | The Honorable Kenneth N. Weise, Mayor, City of Avondale, 11465 West Civic Center Drive, Avondale, AZ 85323. | Development & Engineering, Services Department, 11465 West Civic Center Drive, Avondale, AZ 85323. | Feb. 28, 2020 | 040058
Maricopa (FEMA Docket No.: B-1964). | City of Glendale, (19-09-1678P). | The Honorable Jerry Weiers, Mayor, City of Glendale, 5850 West Glendale Avenue, Glendale, AZ 85301. | City Hall, 5850 West Glendale Avenue, Glendale, AZ 85301. | Jan. 3, 2020 | 040045
Maricopa (FEMA Docket No.: B-1964). | City of Goodyear, (19-09-1678P). | The Honorable Georgia Lord, Mayor, City of Goodyear, 190 North Litchfield Road, Goodyear, AZ 85338. | Engineering and Development Services, 14455 West Van Buren Street, Suite D101, Goodyear, AZ 85338. | Jan. 3, 2020 | 040046
Maricopa (FEMA Docket No.: B-1971). | City of Surprise, (19-09-0616P). | The Honorable Skip Hall, Mayor, City of Surprise, 16000 North Civic Center Plaza, Surprise, AZ 85374. | Public Works Department, Engineering Development Services, 16000 North Civic Center Plaza, Surprise, AZ 85374. | Jan. 24, 2020 | 040053
Maricopa (FEMA Docket No.: B-1978). | Unincorporated Areas of Maricopa County, (19-09-0243P). | The Honorable Bill Gates, Chairman, Board of Supervisors, Maricopa County, 301 West Jefferson Street, 10th Floor, Phoenix, AZ 85003. | Flood Control District of Maricopa County, 2801 West Durango Street, Phoenix, AZ 85009. | Mar. 6, 2020 | 040037
Maricopa (FEMA Docket No.: B-1971). | Unincorporated Areas of Maricopa County, (19-09-0616P). | The Honorable Bill Gates, Chairman, Board of Supervisors, Maricopa County, 301 West Jefferson Street, 10th Floor, Phoenix, AZ 85003. | Flood Control District of Maricopa County, 2801 West Durango Street, Phoenix, AZ 85009. | Jan. 24, 2020 | 040037
Maricopa (FEMA Docket No.: B-1978). | Unincorporated Areas of Maricopa County, (19-09-1332X). | The Honorable Bill Gates, Chairman, Board of Supervisors, Maricopa County, 301 West Jefferson Street, 10th Floor, Phoenix, AZ 85003. | Flood Control District of Maricopa County, 2801 West Durango Street, Phoenix, AZ 85009. | Feb. 28, 2020 | 040037
Maricopa (FEMA Docket No.: B-1964). | Unincorporated Areas of Maricopa County, (19-09-1678P). | The Honorable Bill Gates, Chairman, Board of Supervisors, Maricopa County, 301 West Jefferson Street, 10th Floor, Phoenix, AZ 85003. | Flood Control District of Maricopa County, 2801 West Durango Street, Phoenix, AZ 85009. | Jan. 3, 2020 | 040037
Mohave (FEMA Docket No.: B-1978). | City of Bullhead City, (18-09-2079P). | The Honorable Tom Brady, Mayor, City of Bullhead City, 2355 Trane Road, Bullhead City, AZ 86442. | Public Works Department, 2355 Trane Road, Bullhead City, AZ 86442. | Feb. 26, 2020 | 040125
Pinal (FEMA Docket No.: B-1980). | Town of Florence, (19-09-2018P). | The Honorable Tara Walter, Mayor, Town of Florence, P.O. Box 2670, Florence, AZ 85132. | Public Works Department, 224 West 20th Street, Florence, AZ 85132. | Mar. 6, 2020 | 040084
Yavapai (FEMA Docket No.: B-1978). | City of Prescott, (19-09-1057P). | The Honorable Greg Mengarelli, Mayor, City of Prescott, 201 South Cortez Street, Prescott, AZ 86303. | Public Works Department, 433 North Virginia Street, Prescott, AZ 86301. | Mar. 2, 2020 | 040098
Yavapai (FEMA Docket No.: B-1971). | City of Prescott, (19-09-1152P). | The Honorable Greg Mengarelli, Mayor, City of Prescott, City Hall, 201 South Cortez Street, Prescott, AZ 86303. | Public Works Department, 433 North Virginia Street, Prescott, AZ 86301. | Jan. 6, 2020 | 040098
Yavapai (FEMA Docket No.: B-1971). | Unincorporated Areas of Yavapai County, (19-09-1152P). | The Honorable Randy Garrison, Chairman, Board of Supervisors, Yavapai County, 10 South 6th Street, Cottonwood, AZ 86326. | Yavapai County Flood Control District, 1120 Commerce Drive, Prescott, AZ 86305. | Jan. 6, 2020 | 040093
California:
Alameda (FEMA Docket No.: B-1980). | City of Dublin, (19-09-0927P). | The Honorable David G. Haubert, Mayor, City of Dublin, 100 Civic Plaza, Dublin, CA 94568. | Public Works Department, 100 Civic Plaza, Dublin, CA 94568. | Mar. 16, 2020 | 060705
Alameda (FEMA Docket No.: B-1980). | City of Pleasanton, (19-09-0927P). | The Honorable Jerry Thorne, Mayor, City of Pleasanton, P.O. Box 520, Pleasanton, CA 94566. | Engineering Department, 200 Old Bernal Avenue, Pleasanton, CA 94566. | Mar. 16, 2020 | 060012
Contra Costa (FEMA Docket No.: B-1978). | City of Brentwood, (19-09-0148P). | The Honorable Robert Taylor, Mayor, City of Brentwood, 150 City Park Way, Brentwood, CA 94513. | Community Development, Building Division, 150 City Park Way, Brentwood, CA 94513. | Feb. 24, 2020 | 060439
Contra Costa (FEMA Docket No.: B-1980). | Unincorporated Areas of Contra Costa County, (19-09-1287P). | The Honorable John M. Gioia, Chairman, Board of Supervisors, Contra Costa County, 11780 San Pablo Avenue Suite D, El Cerrito, CA 94530. | Contra Costa County, Public Works Department, 255 Glacier Drive, Martinez, CA 94553. | Mar. 13, 2020 | 060025
Lake (FEMA Docket No.: B-1971). | Unincorporated Areas of Lake County, (19-09-1004P). | The Honorable Tina Scott, Chair, Board of Supervisors, Lake County, 255 North Forbes Street, Lakeport, CA 95453. | Lake County, Department of Public Works, 255 North Forbes Street Room 309, Lakeport, CA 95453. | Jan. 16, 2020 | 060090
Los Angeles (FEMA Docket No.: B-1980). | City of Hidden Hills, (18-09-1642P). | The Honorable Larry G. Weber, Mayor, City of Hidden Hills, 6165 Spring Valley Road, Hidden Hills, CA 91302. | Building and Safety Department, 6165 Spring Valley Road, Hidden Hills, CA 91302. | Mar. 18, 2020 | 060125
Placer (FEMA Docket No.: B-1971). | City of Roseville, (19-09-1696P). | The Honorable John B. Allard II, Mayor, City of Roseville, 311 Vernon Street, Roseville, CA 95678. | Engineering Department, 316 Vernon Street, Roseville, CA 95678. | Jan. 21, 2020 | 060243
Riverside (FEMA Docket No.: B-1971). | Agua Caliente Band of Cahuilla Indian Reservation, (19-09-1172P). | The Honorable Jeff L. Grubbe, Chairman, Tribal Council, Agua Caliente Band of Cahuilla Indians, 5401 Dinah Shore Drive, Palm Springs, CA 92264. | Tribal Administrative Office, Planning and Natural Resources, 5401 Dinah Shore Drive, Palm Springs, CA 92264. | Jan. 31, 2020 | 060763
Riverside (FEMA Docket No.: B-1964). | City of Cathedral City, (19-09-0367P). | The Honorable Mark Carnevale, Mayor, City of Cathedral City, 68700 Avenida Lalo Guerrero, Cathedral City, CA 92234. | Engineering Department, 68-700 Avenida Lalo Guerrero, Cathedral City, CA 92234. | Jan. 3, 2020 | 060704
Riverside (FEMA Docket No.: B-1964). | City of Palm Springs, (19-09-0367P). | The Honorable Robert Moon, Mayor, City of Palm Springs, 3200 East Tahquitz Canyon Way, Palm Springs, CA 92262. | Public Works and Engineering Department, 3200 East Tahquitz Canyon Way, Palm Springs, CA 92262. | Jan. 3, 2020 | 060257
Riverside (FEMA Docket No.: B-1971). | City of Palm Springs, (19-09-1172P). | The Honorable Robert Moon, Mayor, City of Palm Springs, 3200 East Tahquitz Canyon Way, Palm Springs, CA 92262. | Public Works and Engineering Department, 3200 East Tahquitz Canyon Way, Palm Springs, CA 92262. | Jan. 31, 2020 | 060257
San Bernardino (FEMA Docket No.: B-1978). | City of San Bernardino, (19-09-2084P). | The Honorable John Valdivia, Mayor, City of San Bernardino, 290 North D Street, San Bernardino, CA 92401. | City Hall, 300 North D Street, San Bernardino, CA 92418. | Feb. 25, 2020 | 060281
San Diego (FEMA Docket No.: B-1980). | Unincorporated Areas of San Diego County, (19-09-0630P). | The Honorable Dianne Jacob, Chair, Board of Supervisors, San Diego County, 1600 Pacific Highway Room 335, San Diego, CA 92101. | San Diego County Flood Control District, Department of Public Works, 5510 Overland Avenue Suite 410, San Diego, CA 92123. | Mar. 13, 2020 | 060284
Florida:
Bay (FEMA Docket No.: B-1980). | City of Panama City Beach, (19-04-4255P). | The Honorable Mike Thomas, Mayor, City of Panama City Beach, 110 South Arnold Road, Panama City Beach, FL 32413. | City Hall, 110 South Arnold Road, Panama City Beach, FL 32413. | Mar. 11, 2020 | 120013
Bay (FEMA Docket No.: B-1980). | Unincorporated Areas of Bay County, (19-04-4490P). | Mr. Robert Majka, Jr., County Manager, Bay County, 840 West 11th Street, Panama City, FL 32401. | Bay County Planning and Zoning, 707 Jenks Avenue, Suite B, Panama City, FL 32401. | Mar. 11, 2020 | 120004
Duval (FEMA Docket No.: B-1964). | City of Jacksonville, (19-04-2699P). | The Honorable Lenny Curry, Mayor, City of Jacksonville, 117 West Duval Street, Suite 400, Jacksonville, FL 32202. | Edward Ball Building Development Services, Room 2100, 214 North Hogan Street, Jacksonville, FL 32202. | Dec. 27, 2019 | 120077
Duval (FEMA Docket No.: B-1978). | City of Jacksonville, (19-04-4237P). | The Honorable Lenny Curry, Mayor, City of Jacksonville, 117 West Duval Street Suite 400, Jacksonville, FL 32202. | Edward Ball Building Development Services, Room 2100, 214 North Hogan Street, Jacksonville, FL 32202. | Feb. 19, 2020 | 120077
Nassau (FEMA Docket No.: B-1980). | Unincorporated Areas of Nassau County, (19-04-4060P). | The Honorable Daniel B. Leeper, Vice-Chairman, Nassau County Commissioner, 96135 Nassau Place, Suite 1, Yulee, FL 32097. | Nassau County, Building Department, 96161 Nassau Place, Yulee, FL 32097. | Mar. 12, 2020 | 120170
Hawaii:
Hawaii (FEMA Docket No.: B-1964). | Hawaii County, (19-09-0188P). | The Honorable Harry Kim, Mayor, Hawaii County, 25 Aupuni Street, Suite 2603, Hilo, HI 96720. | Hawaii County Department of Public Works, Engineering Division, 101 Pauahi Street, Suite 7, Hilo, HI 96720. | Jan. 10, 2020 | 155166
Maui (FEMA Docket No.: B-1964). | Maui County, (19-09-0247P). | The Honorable Michael P. Victorino, Mayor, County of Maui, 200 South High Street, Kalana O Maui Building 9th Floor, Wailuku, HI 96793. | County of Maui Planning Department, 2200 Main Street, Suite 315, Wailuku, HI 96793. | Jan. 8, 2020 | 150003
Idaho:
Canyon (FEMA Docket No.: B-1971). | City of Middleton, (19-10-0311P). | The Honorable Darin Taylor, Mayor, City of Middleton, City Hall, 1103 West Main Street, Middleton, ID 83644. | City Hall, 1103 West Main Street, Middleton, ID 83644. | Jan. 17, 2020 | 160037
Canyon (FEMA Docket No.: B-1971). | Unincorporated Areas of Canyon County, (19-10-0311P). | The Honorable Pam White, Chair, Board of County Commissioners, County Courthouse, 1115 Albany Street, Room 101, Caldwell, ID 83605. | Canyon County Administration Building, 111 North 11th Avenue Room 101, Caldwell, ID 83605. | Jan. 17, 2020 | 160208
Illinois:
DuPage (FEMA Docket No.: B-1980). | City of Naperville, (19-05-3885P). | The Honorable Steve Chirico, Mayor, City of Naperville, 400 South Eagle Street, Naperville, IL 60540. | City Hall, 400 South Eagle Street, Naperville, IL 60540. | Mar. 12, 2020 | 170213
DuPage (FEMA Docket No.: B-1971). | City of Warrenville (19-05-2162P). | The Honorable David L. Brummel, Mayor, City of Warrenville, 28W701 Stafford Place, Warrenville, IL 60555. | City Hall, 28W701 Stafford Place, Warrenville, IL 60555. | Jan. 9, 2020 | 170218
DuPage (FEMA Docket No.: B-1978). | City of West Chicago, (19-05-4566P). | The Honorable Ruben Pineda, Mayor, City of West Chicago, 475 Main Street West Chicago, IL 60185. | City Hall, 475 Main Street, West Chicago, IL 60185. | Mar. 6, 2020 | 170219
DuPage (FEMA Docket No.: B-1971). | Unincorporated Areas of DuPage County, (19-05-2162P). | The Honorable Dan Cronin, Chairman, DuPage County Board, 421 North County Farm Road, Wheaton, IL 60187. | DuPage County Administration Building, Stormwater Management, 421 North County Farm Road, Wheaton, IL 60187. | Jan. 9, 2020 | 170197
DuPage (FEMA Docket No.: B-1978). | Unincorporated Areas of DuPage County, (19-05-4566P). | The Honorable Dan Cronin, Chairman, DuPage County Board, 421 North County Farm Road, Wheaton, IL 60187. | DuPage County Administration Building, Stormwater Management, 421 North County Farm Road, Wheaton, IL 60187. | Mar. 6, 2020 | 170197
DuPage (FEMA Docket No.: B-1978). | Village of Winfield, (19-05-4566P). | The Honorable Erik Spande, Village President, Village of Winfield, 27W465 Jewell Road, Winfield, IL 60190. | Village Hall, 27W465 Jewell Road, Winfield, IL 60190. | Mar. 6, 2020 | 170223
Kane (FEMA Docket No.: B-1978). | City of Elgin, (19-05-0133P). | The Honorable Dave Kaptain, Mayor, City of Elgin, 150 Dexter Court, Elgin, IL 60120. | Public Works Department, Engineering Department, 150 Dexter Court, Elgin, IL 60120. | Feb. 27, 2020 | 170087
Marshall. (FEMA Docket No.: B-1971). | City of Wenona, (19-05-3185P). | The Honorable Jamie Durham, Mayor, City of Wenona, P.O. Box 601, Wenona, IL 61377. | City Hall, 226 South Chestnut Street, Wenona, IL 61377. | Jan. 9, 2020 | 170462
Marshall (FEMA Docket No.: B-1971). | Unincorporated Areas of Marshall County, (19-05-3185P). | The Honorable Gary R. Kroeschen, Chairman, Marshall County Board, P.O. Box 328, Lacon, IL 61540. | Marshall County Courthouse, 122 North Prairie Street, Lacon, IL 61540. | Jan. 9, 2020 | 170994
Williamson (FEMA Docket No.: B-1980). | City of Carterville, (19-05-2993P). | The Honorable Bradley Robinson, Mayor, City of Carterville, 103 South Division Street, Carterville, IL 62918. | City Hall, 103 South Division Street, Carterville, IL 62918. | Mar. 13, 2020 | 170716
Indiana:
Allen (FEMA Docket No.: B-1980). | City of Fort Wayne, (19-05-4349P). | The Honorable Tom Henry, Mayor, City of Fort Wayne, 200 East Berry Street, Suite 420, Fort Wayne, IN 46802. | Department of Planning Services, 200 East Berry Street, Suite 150, Fort Wayne, IN 46802. | Mar. 11, 2020 | 180003
Marion (FEMA Docket No.: B-1971). | City of Indianapolis (18-05-2012P) | The Honorable Joe Hogsett, Mayor, City of Indianapolis, City-County Building, 200 East Washington Street #2501, Indianapolis, IN 46204. | City Hall, 1200 Madison Avenue Suite 100, Indianapolis, IN 46225. | Jan. 24, 2020 | 180159
Marion (FEMA Docket No.: B-1971). | Town of Speedway, (18-05-2012P). | Mr. Jacob Blasdel, Town Manager, Town of Speedway, 1450 North Lynhurst Drive, Speedway, IN 46224. | Town Hall, 1450 North Lynhurst Drive, Speedway, IN 46224. | Jan. 24, 2020 | 180162
Morgan (FEMA Docket No.: B-1980). | Unincorporated Areas of Morgan County, (19-05-3282P). | Mr. Norman Voyles, Morgan County Commissioner, 180 South Main Street Suite 112, Martinsville, IN 46151. | Morgan County Administration Building, 180 South Main Street, Martinsville, IN 46151. | Mar. 6, 2020 | 180176
Iowa: Black Hawk (FEMA Docket No.: B-1971). | City of Waterloo, (19-07-1540P). | The Honorable Quentin M. Hart, Mayor, City of Waterloo, 715 Mulberry Street, Waterloo, IA 50703. | City Hall, 715 Mulberry Street, Waterloo, IA 50703. | Jan. 28, 2020 | 190025
Kansas:
Johnson (FEMA Docket No.: B-1964). | City of Lenexa, (19-07-0874P). | The Honorable Michael Boehm, Mayor, City of Lenexa, 17101 West 87th Street Parkway, Lenexa, KS 66219. | City Hall, 12350 West 87th Street Parkway, Lenexa, KS 66215. | Jan. 15, 2020 | 200168
Johnson (FEMA Docket No.: B-1964). | City of, Overland Park, (19-07-0057P). | The Honorable Carl Gerlach, Mayor, City of Overland Park, 8500 Santa Fe Drive, Overland Park, KS 66212. | City Hall, 8500 Santa Fe Drive, Overland Park, KS 66212. | Jan. 8, 2020 | 200174
Johnson (FEMA Docket No.: B-1964). | City of Prairie Village, (19-07-0057P). | The Honorable Erik Mikkelson, Mayor, City of Prairie Village, 7700 Mission Road, Prairie Village, KS 66208. | City Hall, 7700 Mission Road, Prairie Village, KS 66208. | Jan. 8, 2020 | 200175
Michigan:
Bay (FEMA Docket No.: B-1978). | Township of Bangor, (19-05-2130P). | The Honorable Glenn Rowley, Supervisor, Township of Bangor, Township Hall, 180 State Park Drive, Bay City, MI 48706. | Township Hall, 180 State Park Drive, Bay City, MI 48706. | Feb. 28, 2020 | 260019
Minnesota:
Carver (FEMA Docket No.: B-1978). | City of Watertown, (19-05-1618P). | The Honorable Steve Washburn, Mayor, City of Watertown, City Hall, 309 Lewis Avenue South, Watertown, MN 55388. | City Hall, 309 Lewis Avenue South, Watertown, MN 55388. | Mar. 6, 2020 | 270056
Carver (FEMA Docket No.: B-1978). | Unincorporated Areas of Carver County, (19-05-1618P). | The Honorable Randy Maluchnik, Board Chairman, Carver County, 600 East 4th Street, Chaska, MN 55318. | Carver County Public Health and Environment, 600 East 4th Street, Chaska, MN 55318. | Mar. 6, 2020 | 270049
Hennepin (FEMA Docket No.: B-1971). | City of Maple Grove, (18-05-4086P). | The Honorable Mark Steffenson, Mayor, City of Maple Grove, Government Center, 12800 Arbor Lakes Parkway North, Maple Grove, MN 55369. | Government Center, and Public Safety Facility, 12800 Arbor Lakes Parkway North, Maple Grove, MN 55369. | Jan. 31, 2020 | 270169
Missouri:
Jackson (FEMA Docket No.: B-1964). | City of Lee's Summit, (19-07-1150P). | The Honorable Bill Baird, Mayor, City of Lee's Summit, 220 Southeast Green Street, Lee's Summit, MO 64063. | Department of Public Works, 220 Southeast Green Street, Lee's Summit, MO 64063. | Jan. 2, 2020 | 290174
Scott (FEMA Docket No.: B-1971). | City of Sikeston, (18-07-2115P). | The Honorable Steven Burch, Mayor, City of Sikeston, 105 East Center Street, Sikeston, MO 63801. | City Hall, 105 East Center Street, Sikeston, MO 63801. | Feb. 6, 2020 | 295270
Scott (FEMA Docket No.: B-1971). | Unincorporated Areas of Scott County, (18-07-2115P). | The Honorable Jim Glueck, Presiding Scott County Commissioner, P.O. Box 188, Benton, MO 63736. | Scott County Courthouse, 131 South Winchester Street, Benton, MO 63736. | Feb. 6, 2020 | 290837
St. Charles (FEMA Docket No.: B-1971). | City of St. Charles, (19-07-1154P). | The Honorable Dan Borgmeyer, Mayor, City of St. Charles, 200 North 2nd Street, 4th Floor, Room 400, St Charles, MO 63301. | City Hall, 200 North 2nd Street, St. Charles, MO 63301. | Jan. 28, 2020 | 290318
Nebraska: Lincoln (FEMA Docket No.: B-1971). | City of North Platte, (19-07-0085P). | The Honorable Dwight Livingston, Mayor, City of North Platte, 211 West 3rd Street, North Platte, NE 69101. | City Hall, 211 West 3rd Street, North Platte, NE 69101. | Feb. 7, 2020 | 310143
Nevada:
Clark (FEMA Docket No.: B-1978). | Unincorporated Areas of Clark County, (19-09-1583P). | The Honorable Marilyn Kirkpatrick, Chair, Board of Commissioners, Clark County, 500 South Grand Central Parkway, 6th Floor, Las Vegas, NV 89106. | Clark County, Office of the Director of Public Works, 500 South Grand Central Parkway, 2nd Floor, Las Vegas, NV 89155. | Feb. 21, 2020 | 320003
Clark (FEMA Docket No.: B-1971). | Unincorporated Areas of Clark County, (19-09-1976P). | The Honorable Marilyn Kirkpatrick, Chair, Board of Commissioners, Clark County, 500 South Grand Central Parkway, 6th Floor, Las Vegas, NV 89106. | Clark County, Office of the Director of Public Works, 500 South Grand Central Parkway, 2nd Floor, Las Vegas, NV 89155. | Jan. 13, 2020 | 320003
Washoe (FEMA Docket No.: B-1978). | City of Reno, (19-09-0750P). | The Honorable Hillary Schieve, Mayor, City of Reno, P.O. Box 1900, Reno, NV 89505. | City Hall, 1 East 1st Street, Reno, NV 89501. | Mar. 2, 2020 | 320020
Washoe (FEMA Docket No.: B-1978). | Unincorporated Areas of Washoe County, (19-09-0750P). | The Honorable Vaughn Hartung, Chairman, Board of Commissioners, Washoe County, 1001 East 9th Street, Reno, NV 89512. | Washoe County Administration Building, Department of Public Works, 1001 East 9th Street, Reno, NV 89512. | Mar. 2, 2020 | 320019
New Jersey:
Middlesex (FEMA Docket No.: B-1978). | Township of Woodbridge, (19-02-1082P). | The Honorable John E. McCormac, Mayor, Township of Woodbridge, Township Municipal Building, 1 Main Street, Woodbridge, NJ 07095. | Township Municipal Building, 1 Main Street, Woodbridge, NJ 07095. | Mar. 4, 2020 | 345331
Morris (FEMA Docket No.: B-1978). | Town of Dover, (19-02-0681P). | The Honorable James P. Dodd, Mayor, Town of Dover, 37 North Sussex Street, Dover, NJ 07801. | Engineering Department, 100 Princeton Avenue, Dover, NJ 07801. | Feb. 7, 2020 | 340340
New York:
Essex (FEMA Docket No.: B-1964). | Town of Willsboro, (19-02-0483P). | Mr. Shaun Gillilland, Town Supervisor, Town of Willsboro, 5 Farrell Road, Willsboro, NY 12996. | Town Hall, 5 Farrell Road, Willsboro, NY 12996. | Feb. 5, 2020 | 360267
Westchester (FEMA Docket No.: B-1980). | Town of Bedford, (18-02-1615P). | The Honorable Chris Burdick, Supervisor, Town of Bedford, 321 Bedford Road, Bedford Hills, NY 12550. | Town Planning Office, 425 Cherry Street, Bedford, NY 10507. | Mar. 20, 2020 | 360903
Westchester (FEMA Docket No.: B-1980). | Village of Mount Kisco, (18-02-1615P). | The Honorable Gina D. Picinich, Mayor, Village of Mount Kisco, 104 Main Street, Mount Kisco, NY 10549. | Village Engineer, 104 Main Street, Mount Kisco, NY 10549. | Mar. 20, 2020 | 360918
Ohio:
Butler (FEMA Docket No.: B-1964). | City of Monroe, (18-05-4114P). | The Honorable Robert E. Routson, Mayor, City of Monroe, P.O. Box 330, Monroe, OH 45050. | Village Hall, 233 South Main Street, Monroe, OH 45050. | Jan. 2, 2020 | 390042
Butler (FEMA Docket No.: B-1971). | Unincorporated Areas of Butler County, (18-05-6293P). | The Honorable Donald L. Dixon, President, Board of Commissioners, Butler County Government Services Center, 315 High Street, 6th Floor, Hamilton, OH 45011. | Butler County Administrative Center, Building and Zoning Department, 130 High Street, 1st Floor, Hamilton, OH 45011. | Jan. 27, 2020 | 390037
Franklin (FEMA Docket No.: B-1971). | City of Grove City, (18-05-3157P). | The Honorable Richard L.”Ike” Stage, Mayor, City of Grove City, 4035 Broadway, Grove City, OH 43123. | City Hall, 4035 Broadway, Grove City, OH 43123. | Jan. 10, 2020 | 390173
Warren (FEMA Docket No.: B-1971). | City of Mason, (18-05-6293P). | The Honorable Victor Kidd, Mayor, City of Mason, Mason Municipal Center, 6000 Mason Montgomery Road, Mason, OH 45040. | Municipal Center, 6000 Mason Montgomery Road, Mason, OH 45040. | Jan. 27, 2020 | 390559
Oregon: Lane (FEMA Docket No.: B-1964). | Unincorporated Areas of Lane County, (19-10-0523P). | Mr. Jay Bozievich, Commissioner, Lane County, Lane County Public Service Building, 125 East 8th Street, Eugene, OR 97401. | Lane County Planning Department, Public Service Building, 125 East 8th Street, Eugene, OR 97401. | Jan. 10, 2020 | 415591
Texas:
Dallas (FEMA Docket No.: B-1978). | City of Dallas, (19-06-1433P). | The Honorable Eric Johnson, Mayor, City of Dallas, 1500 Marilla Street, Room 5EN, Dallas, TX 75201. | Trinity Watershed Management Department, Floodplain and Drainage Management, 320 East Jefferson Boulevard, Room 307, Dallas, TX 75203. | Feb. 26, 2020 | 480171
Tarrant (FEMA Docket No.: B-1980). | City of Fort Worth, (19-06-0709P). | The Honorable Betsy Price, Mayor, City of Fort Worth, 200 Texas Street, Fort Worth, TX 76102. | Department of Transportation and Public Works, 1000 Throckmorton Street, Fort Worth, TX 76102. | Mar. 12, 2020 | 480596
Tarrant (FEMA Docket No.: B-1978). | City of Fort Worth, (19-06-2078P). | The Honorable Betsy Price, Mayor, City of Fort Worth, 200 Texas Street, Fort Worth, TX 76102. | Department of Transportation and Public Works, 200 Texas Street, Fort Worth, TX 76102. | Feb. 21, 2020 | 480596
Tarrant (FEMA Docket No.: B-1978). | City of Richland Hills, (19-06-2078P). | The Honorable Edward Lopez, Mayor, City of Richland Hills, 3200 Diana Drive, Richland Hills, TX 76118. | City Hall, 3200 Diana Drive, Richland Hills, TX 76118. | Feb. 21, 2020 | 480608
Washington: Mason (FEMA Docket No.: B-1964). | Unincorporated Areas of Mason County, (19-10-1106P). | Mr. Kevin Shutty, County Commissioner Mason County, 411 North 5th Street, Shelton, WA 98584. | Mason County Public Works, 100 West Public Works Drive, Shelton, WA 98584. | Jan. 10, 2020 | 530115
Wisconsin:
Brown (FEMA Docket No.: B-1978). | Unincorporated Areas of Brown County, (19-05-1474P). | The Honorable Patrick Moynihan, Jr., Board Chairman, Brown County, 305 East Walnut Street, Green Bay, WI 54305. | Brown County Zoning Office, 305 East Walnut Street, Green Bay, WI 54301. | Feb. 24, 2020 | 550020
Brown (FEMA Docket No.: B-1978). | Village of Ashwaubenon, (19-05-1474P). | The Honorable Mary Kardoskee, Village President, Village of Ashwaubenon, 2410 South Ridge Road, Green Bay, WI 54304. | Village Hall, 2155 Holmgren Way Ashwaubenon, WI 54304. | Feb. 24, 2020 | 550600
Ozaukee (FEMA Docket No.: B-1978). | Village of Thiensville, (19-05-4351X). | The Honorable Van A. Mobley, President, Village of Thiensville Board, Village Hall, 250 Elm Street, Thiensville, WI 53092. | Village Hall, 250 Elm Street, Thiensville, WI 53092. | Feb. 21, 2020 | 550318

[FR Doc. 2020-11723 Filed 5-29-20; 8:45 am]

BILLING CODE 9110-12-P